DEPARTMENT OF COMMERCE

International Trade Administration

[A-570-601]

Tapered Roller Bearings and Parts Thereof, Finished and Unfinished, From the People's Republic of China: Preliminary Determination of No Shipments and Rescission of Antidumping Duty Administrative Review, in Part; 2022-2023

AGENCY: Enforcement and Compliance, International Trade Administration, Department of Commerce.

SUMMARY: The U.S. Department of Commerce (Commerce) is rescinding, in part, the administrative review of the antidumping duty (AD) order on tapered toller bearings and parts thereof, finished and unfinished (TRBs) from the People's Republic of China (China) for the period of review (POR) June 1, 2022, through May 31, 2023. Further, Commerce preliminarily finds that Shanghai Tainai Bearing Co., Ltd. (Tainai) had no shipments during the POR.

DATES: Applicable May 2, 2024.

FOR FURTHER INFORMATION CONTACT: Steven Seifert, AD/CVD Operations, Office II, Enforcement and Compliance, International Trade Administration, U.S. Department of Commerce, 1401 Constitution Avenue NW, Washington, DC 20230; telephone: (202) 482-3350.

SUPPLEMENTARY INFORMATION:

Background

On February 26, 1990, Commerce published in the Federal Register the AD order on TRBs from China.¹ On June 1, 2023, Commerce published in the Federal Register a notice of opportunity to request an administrative review of the Order.² On June 30, 2023, Koyo Bearings North America LLC (Koyo, a domestic interested party) submitted a timely request that Commerce conduct an administrative review of the Order with respect to Tainai, C&U Group Shanghai Bearing Co., Ltd., Hangzhou C&U Automotive Bearing Co., Ltd., Hangzhou C&U Metallurgy Bearing Co., Ltd., Huangshi C&U Bearing Co., Ltd., and Sichuan C&U Bearing Co., Ltd.³ Also on June 30, 2023, Tainai submitted a timely request that Commerce conduct an administrative review of the Order of its entries of subject merchandise during the POR.⁴

¹ See Tapered Roller Bearings from the People's Republic of China; Amendment to Final Determination of Sales at Less Than Fair Value and Antidumping Duty Order in Accordance with Decision Upon Remand, 55 FR 6669 (February 26, 1990) (Order).

² See Antidumping or Countervailing Duty Order, Finding, or Suspended Investigation; Opportunity to Request Administrative Review and Join Annual Inquiry Service List, 88 FR 35837 (June 1, 2023).

³ See Petitioner's Letter, “Koyo Bearings North America LLC's Request for Administrative Review,” dated June 30, 2023.

⁴ See Tainai's Letter, “Request for Review,” dated June 30, 2023. On June 30, 2023, Changshan Peer Bearing Co., Ltd. (CPZ, a Chinese producer and exporter), requested a review of itself and subsequently, timely withdrew its request prior to the publication of the Initiation Notice, such that we did not include CPZ in the Initiation Notice.

On August 3, 2023, Commerce published in the Federal Register a notice of initiation of administrative review with respect to entries of TRBs from China exported or produced by Tainai, C&U Group Shanghai Bearing Co., Ltd., Hangzhou C&U Automotive Bearing Co., Ltd., Hangzhou C&U Metallurgy Bearing Co., Ltd., Huangshi C&U Bearing Co., Ltd., and Sichuan C&U Bearing Co., Ltd., in accordance with section 751(a) of the Tariff Act of 1930, as amended (the Act), and 19 CFR 351.221(c)(1)(i).⁵

⁵ See Initiation of Antidumping and Countervailing Duty Administrative Reviews, 88 FR 51271 (August 3, 2023).

On August 3, 2023, we placed on the record U.S. Customs and Border Protection (CBP) data for entries of TRBs from China during the POR, showing one suspended entry during the POR and invited interested parties to comment.⁶ On August 10, 2023, JTEKT Bearings North America LLC. (JTEKT, a domestic interested party) submitted comments regarding the CBP data.⁷ Tainai timely withdrew its request for a review of itself on August 10, 2023 ⁸ and on August 24, 2023, timely submitted a certification of no shipments.⁹ On February 27, 2024, Commerce extended the preliminary results of this review until April 30, 2024.¹⁰

⁶ See Memorandum, “Release of U.S. Customs and Border Protection Entry Data,” dated August 3, 2023.

⁷ See JKEKT's Letter, “JTEKT Bearings North America LLC's Comments on CBP Data Release,” dated August 10, 2023. JKEKT noted that “Koyo Bearings North America LLC officially changed its legal name to JTEKT Bearings North America LLC on April 1, 2023. The entry of appearance and APO application filed on behalf of our firm has been amended to reflect this change.”

⁸ See Tainai's Letter, “Withdraw Request for Review,” dated August 10, 2023.

⁹ See Tainai's Letter, “No Shipment Certification,” dated August 24, 2023.

¹⁰ See Memorandum, “Extension of Deadline for Preliminary Results of Antidumping Duty Administrative Review,” dated February 27, 2024.

On April 4, 2024, Commerce notified all interested parties of its intent to rescind the instant review in full because there were no suspended entries of subject merchandise during the POR and invited interested parties to comment.¹¹ No interested party submitted comments to Commerce in response to this notice. Subsequently, on April 22, 2024, Commerce issued a memorandum ¹² correcting an error in its Intent to Rescind Memorandum in which it incorrectly stated that it intended to rescind the review in full when it intended to rescind the review in part, with respect to five of the six companies listed in the Initiation Notice. No party submitted comments regarding the Correction to Intent to Rescind Memorandum.

¹¹ See Memorandum, “Notice of Intent to Rescind Review,” dated April 4, 2024 (Intent to Rescind Memorandum).

¹² See Memorandum, “Correction on Companies to Rescind Regarding Intent to Rescind Memorandum,” dated April 22, 2024 (Correction to Intent to Rescind Memorandum).

Scope of the Order

Imports covered by the Order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.700.6060, 8708.99.2300, 8708.99.27, 8708.99.4100, 8708.99.4850, 8708.99.6890, 8708.99.8115, and 8708.99.8180. Although the HTSUS item numbers are provided for convenience and customs purposes, the written description of the scope of the Order is dispositive.

Rescission of Review, In Part

Pursuant to 19 CFR 351.213(d)(3), it is Commerce's practice to rescind an administrative review of an AD order when there are no suspended entries of subject merchandise during the POR.¹³ Normally, upon completion of an administrative review, the suspended entries are liquidated at the AD assessment rate calculated for the review period.¹⁴ Therefore, for an administrative review to be conducted, there must be a suspended entry that Commerce can instruct CBP to liquidate at the AD assessment rate calculated for the review period.¹⁵

¹³ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

¹⁴ See 19 CFR 351.212(b)(1).

¹⁵ See 19 CFR 351.213(d)(3).

As noted above, there were no suspended entries of subject merchandise for five exporters subject to the review, C&U Group Shanghai Bearing Co., Ltd., Hangzhou C&U Automotive Bearing Co., Ltd., Hangzhou C&U Metallurgy Bearing Co., Ltd., Huangshi C&U Bearing Co., Ltd., and Sichuan C&U Bearing Co., Ltd. during the POR. Accordingly, in the absence of suspended entries of subject merchandise during the POR for these companies for which this review was initiated, we are hereby rescinding this administrative review, in part, with respect to these companies, in accordance with 19 CFR 351.213(d)(3).

Preliminary Determination of No Shipments

Tanai, an exporter that received a separate rate in a previous segment of the proceeding and is subject to this review, reported that it had no shipments of subject merchandise during the POR. We requested that CBP report any contrary information. CBP reported that an entry was made under the CBP 10-digit case number for Tainai, i.e., the importer of record entered the shipment pursuant to Tainai's cash deposit requirement, but the information for the suspended entry identifies a different manufacturer and exporter for that merchandise.¹⁶ Therefore, based on our analysis of information from CBP and the certification provided by Tainai, we preliminarily determine that Tanai made no shipments of subject merchandise to the United States during the POR. Further, consistent with Commerce's practice, we find that it is not appropriate to rescind the review with respect to Tanai, but rather to complete the review and issue appropriate assessment instructions to CBP based on the final results of review.¹⁷

¹⁶ See Memorandum, “No Shipment Inquiry for Shanghai Tainai Bearings Co., Ltd. (A-570-601) during the period 06/01/2022 through 05/31/2023,” dated October 18, 2023.

¹⁷ See, e.g., Certain Steel Threaded Rod from the People's Republic of China: Preliminary Results of the Antidumping Duty Administrative Review and Preliminary Determination of No Shipments; 2018-2019, 84 FR 71900 (December 30, 2019).

Assessment

For the companies for which this review is being rescinded, in part, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

When Commerce determines that an exporter under review made no shipments of subject merchandise during the POR, upon issuing the final results, Commerce will instruct CBP to liquidate any suspended entries of subject merchandise that entered under that exporter's cash deposit requirement, i.e., under the exporter's CBP case number, during the POR at the weighted-average dumping margin for the China-wide entity.¹⁸

¹⁸ For a full discussion of this practice, see Non-Market Economy Antidumping Proceedings: Assessment of Antidumping Duties, 76 FR 65694 (October 24, 2011).

With respect to Tainai, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

As a result of this administrative review, Commerce does not intend to revise the cash deposit requirements for estimated antidumping duties for entries subject to the Order.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4) and 351.221(b)(4).

Dated: April 26, 2024.
Ryan Majerus,
Deputy Assistant Secretary for Policy and Negotiations, performing the non-exclusive functions and duties of the Assistant Secretary for Enforcement and Compliance.

[FR Doc. 2024-09588 Filed 5-1-24; 8:45 am]

BILLING CODE 3510-DS-P